NATIONAL SCIENCE FOUNDATION

Advisory Committee for Cyberinfrastructure; Notice of Meeting

In accordance with the Federal Advisory Committee Act (Public Law 92-463, as amended), the National Science Foundation announces the following meeting:

Name: Advisory Committee for Cyberinfrastructure (#10719).

Date and Time: Friday, February 15, 2002, 8 a.m. to 2 p.m. EST.

Place: Room 1150, National Science Foundation, 4201 Wilson Boulevard, Arlington, VA, and on the Access Grid, Lucky Labrador Virtual Venue.

Type of Meeting: Open Meeting. The meeting will also involve the use of the Access Grid to interview witnesses. Persons wishing to attend the meeting at NSF should contact Richard Hilderbrandt to arrange for a visitor's pass. Persons wishing to watch the proceedings through the use of the Access Grid are invited to join the meeting in the Lucky Labrador Virtual Venue.

Contact Person: Dr. Richard Hiderbrandt, Program Director, Division of Advanced Computational Infrastructure and Research, Suite 1122, National Science Foundation, 4201 Wilson Boulevard, Arlington, VA 22230, Tel: (703) 292-7093, e-mail: rhilderb@nsf.gov

Purpose of Meeting: To obtain testimony from expert witnesses pertinent to the preparation of a report to the National Science Foundation concerning the broad topic of advanced cyberinfrastructure and the evaluation of the existing Partnerships for Advanced Computational Infrastructure.

Agenda (all times are EST):

8 a.m.-12 p.m.—In-Person and Aaccess Grid Testimony (7 people)

12:00-12:30 p.m.—Lunch

12:30-2 p.m.—In-Person and Access Grid Testimony (3 people)

Dated: January 29, 2002.
Susanne Bolton,
Committee Management Officer.

[FR Doc. 02-2560 Filed 2-1-02; 8:45 am]

BILLING CODE 7555-01-M